DEPARTMENT OF THE INTERIOR

Fish and Wildlife Service

[FWS-HQ-ES-2019-N033; FXES11130100000C4-190-FF02ENEH00]

Endangered and Threatened Wildlife and Plants; 28 Draft Recovery Plan Revisions for 53 Species in the Southeast, Mountain-Prairie, and Pacific Southwest Regions of the United States

AGENCY: Fish and Wildlife Service, Interior.

ACTION: Notice of availability; correction.

SUMMARY: On August 6, 2019, we, the U.S. Fish and Wildlife Service, announced via a Federal Register notice the availability for public review and comment of 28 draft recovery plan revisions, which update recovery criteria for 53 endangered or threatened species located in 12 States (Alabama, Arizona, Arkansas, California, Florida, Georgia, Kentucky, Mississippi, Nevada, Oregon, Tennessee, and Utah) and the Commonwealth of Puerto Rico. Our notice inadvertently included an incorrect URL for the recovery plan revision for the Virgin River chub. In this notice, we correct the error.

SUPPLEMENTARY INFORMATION: On August 6, 2019, we, the U.S. Fish and Wildlife Service, announced via a Federal Register notice (84 FR 38284) the availability for public review and comment of 28 draft recovery plan revisions, which update recovery criteria for 53 endangered or threatened species located in 12 States (Alabama, Arizona, Arkansas, California, Florida, Georgia, Kentucky, Mississippi, Nevada, Oregon, Tennessee, and Utah) and the Commonwealth of Puerto Rico. Our Federal Register notice inadvertently included an incorrect URL for the recovery plan revision for the Virgin River chub. In this notice, we correct the error.

Correction

In the portion of the table on page 38286 of the published Federal Register notice, the first row under the subheading Mountain-Prairie Region (Colorado, Kansas, Montana, Nebraska, North Dakota, South Dakota, Utah, Wyoming) contains an entry for Virgin River chub (Gila robusta seminuda). The entry for the Virgin River chub is being republished to correct the URL address in the sixth column (the column header is internet availability of proposed recovery plan revision). The correct URL is https://ecos.fws.gov/docs/recovery_plan/Virgin%20River%20chub%20recovery%20criteria_20181206_FINAL.pdf. The corrected row in the table reads as follows.

Common name | Scientific name | Listing status ¹ | Current range | Recovery plan name | Internet availability of proposed recovery plan revision | Contact person, phone, email | Contact person's U.S. mail address
Virgin River chub | Gila robusta seminuda | E | AZ, NV, UT | Recovery Plan for the Virgin River Fishes | https://ecos.fws.gov/docs/recovery_plan/Virgin%20River%20 chub%20recovery%20criteria_20181206 _FINAL.pdf | Larry Crist, 801-975-3330, utahfieldoffice_esa@fws.gov | Utah Ecological Services Field Office, 2369 West Orton Circle, Suite 50, West Valley City, UT 84119.

Authority

The authority for this action is section 4(f) of the Endangered Species Act (16 U.S.C. 1533 (f)).

Sara Prigan,
Federal Register Liaison, U.S. Fish and Wildlife Service.

[FR Doc. 2019-17616 Filed 8-15-19; 8:45 am]

BILLING CODE 4333-15-P